DEPARTMENT OF TRANSPORTATION

Office of the Secretary

Aviation Proceedings, Agreements Filed the Week Ending March 4, 2005

The following Agreements were filed with the Department of Transportation under the provisions of 49 U.S.C. 412 and 414. Answers may be filed within 21 days after the filing of the application.

Docket Number: OST-2005-20535.

Date Filed: March 3, 2005.

Parties: Members of the International Air Transport Association.

Subject: PTC3 0829 dated 4 March 2005, Mail Vote 443—Resolution 010o—Special Amending Resolution from Japan to South East Asia. r1-r6, Intended effective date: 1 April 2005.

Renee V. Wright,
Acting Program Manager, Docket Operations, Alternate Federal Register Liaison.

[FR Doc. 05-5353 Filed 3-17-05; 8:45 am]

BILLING CODE 4910-62-P